FEDERAL RETIREMENT THRIFT INVESTMENT BOARD

Sunshine Act Notice

Time and Date: 10 a.m. (EDT), October 9, 2001.

Place: 4th Floor, Conference Room 4506, 1250 H Street, NW., Washington, DC.

Status: Open.

Matters to be Considered: 1. Approval of the minutes of the September 10, 2001, Board member meeting.

2. Thrift Savings plan activity report by the Executive Director.

3. Review of KPMG LLP audit reports:

(a) Backup, Recovery, and Contingency Planning of the Thrift Savings Plan at the U.S. Department of Agriculture, National Finance Center.

(b) Computer Access Controls and Security of the Thrift Savings Plan at the U.S. Department of Agriculture, National Finance Center.

(c) Systems Infrastructure Controls of the Thrift Savings Plan at the U.S. Department of Agriculture, National Finance Center.

Contact Person for More Information:

Thomas J. Trabucco, Director, Office of External Affairs, (202) 942-1640.

Dated: September 24, 2001.
Elizabeth S. Woodruff,
Secretary to the Board, Federal Retirement Thrift Investment Board.

[FR Doc. 01-24252 Filed 9-24-01; 2:47 pm]

BILLING CODE 6760-01-M